DEPARTMENT OF TRANSPORTATION

Federal Aviation Administration

14 CFR Part 39

[Docket No. FAA-2022-0808; Project Identifier MCAI-2022-00100-R]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model AS332C, AS332C1, AS332L, AS332L1 and AS332L2 helicopters. This proposed AD was prompted by reports of a crack in the front upper hoist attachment fitting. This proposed AD would require inspecting each affected hoist attachment fitting (fitting) and depending on the results, removing any cracked fitting from service and reporting information. This proposed AD also prohibits installing an affected fitting unless the required actions are accomplished, as specified in a European Union Aviation Safety Agency (EASA) AD, which is proposed for incorporation by reference (IBR). The FAA is proposing this AD to address the unsafe condition on these products.

DATES: The FAA must receive comments on this proposed AD by August 22, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this NPRM, contact EASA, Konrad-Adenauer-Ufer 3, 50668 Cologne, Germany; telephone +49 221 8999 000; email ADs@easa.europa.eu; internet www.easa.europa.eu. You may find the EASA material on the EASA website at https://ad.easa.europa.eu. For Airbus Helicopters service information identified in this NPRM, contact Airbus Helicopters, 2701 North Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call (817) 222-5110. The EASA material is also available at https://www.regulations.gov by searching for and locating Docket No. FAA-2022-0808.

Examining the AD Docket

You may examine the AD docket at https://www.regulations.gov by searching for and locating Docket No. FAA-2022-0808; or in person at Docket Operations between 9 a.m. and 5 p.m., Monday through Friday, except Federal holidays. The AD docket contains this NPRM, the EASA AD, any comments received, and other information. The street address for Docket Operations is listed above.

FOR FURTHER INFORMATION CONTACT: Kristin Bradley, COS Program Manager, COS Program Management Section, Operational Safety Branch, FAA, 10101 Hillwood Pkwy., Fort Worth, TX 76177; telephone (817) 222-5110; email kristin.bradley@faa.gov.

SUPPLEMENTARY INFORMATION:

Comments Invited

The FAA invites you to send any written relevant data, views, or arguments about this proposal. Send your comments to an address listed under ADDRESSES. Include “Docket No. FAA-2022-0808; Project Identifier MCAI-2022-00100-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kristin Bradley, COS Program Manager, COS Program Management Section, Operational Safety Branch, FAA, 10101 Hillwood Pkwy., Fort Worth, TX 76177; telephone (817) 222-5110; email kristin.bradley@faa.gov. Any commentary that the FAA receives that is not specifically designated as CBI will be placed in the public docket for this rulemaking.

Background

EASA, which is the Technical Agent for the Member States of the European Union, has issued EASA Emergency AD 2022-0016-E, dated January 26, 2022 (EASA AD 2022-0016-E), to correct an unsafe condition for Airbus Helicopters (AH), formerly Eurocopter, Eurocopter France, Aerospatiale, Model AS 332 C, AS 332 C1, AS 332 L, AS 332 L1, and AS 332 L2 helicopters, equipped with front upper fitting manufacturer part number (MP/N) 332A87-1116-21, rear upper fitting MP/N 332A87-1117-20, or lower fitting MP/N 332A87-1176-20.

This proposed AD was prompted by an occurrence of a front upper fitting crack reported on a helicopter equipped with a double hoist design, installed per a supplemental type certificate (STC). The STC has not been validated by the FAA; however, the FAA is proposing this AD because other hoists may have design similarities with the affected fitting installed. The FAA is proposing this AD to detect and address this unsafe condition, which if not corrected, could affect the structural integrity of a fitting, possibly leading to an in-flight detachment of the hoist support, and consequent damage to the helicopter or injury to a person being lifted. EASA considers its AD to be an interim action and further AD action may follow. See EASA AD 2022-0016-E for additional background information.

Related Service Information Under 1 CFR Part 51

EASA AD 2022-0016-E requires a one-time inspection of the front upper fitting MP/N 332A87-1116-21, rear upper fitting MP/N 332A87-1117-20, and lower fitting MP/N 332A87-1176-20 for a crack. If there is a crack, EASA AD 2022-0016-E requires replacing the affected fitting. EASA AD 2022-0016-E also prohibits installing an affected fitting on any helicopter unless it passes the required inspection.

This material is reasonably available because the interested parties have access to it through their normal course of business or by the means identified in the ADDRESSES section.

Other Related Service Information

The FAA reviewed Airbus Helicopters Emergency Alert Service Bulletin 25.03.95, Revision 0, dated January 25, 2022. This service information specifies procedures for inspecting and replacing an affected fitting. This service information also specifies reporting certain information to Airbus Helicopters, and for a cracked fitting, returning the fitting to Airbus Helicopters.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of these same type designs.

Proposed AD Requirements in This NPRM

This proposed AD would require accomplishing the actions specified in EASA AD 2022-0016-E, described previously, as incorporated by reference, except for any differences identified as exceptions in the regulatory text of this proposed AD and except as discussed under “Differences Between this Proposed AD and EASA AD 2022-0016-E.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2022-0016-E by reference in the FAA final rule. This proposed AD would, therefore, require compliance with EASA AD 2022-0016-E in its entirety through that incorporation, except for any differences identified as exceptions in the regulatory text of this proposed AD. Using common terms that are the same as the heading of a particular section in EASA AD 2022-0016-E does not mean that operators need comply only with that section. For example, where the AD requirement refers to “all required actions and compliance times,” compliance with this AD requirement is not limited to the section titled “Required Action(s) and Compliance Time(s)” in EASA AD 2022-0016-E. Service information referenced in EASA AD 2022-0016-E for compliance will be available at https://www.regulations.gov by searching for and locating Docket No. FAA-2022-0808 after the FAA final rule is published.

Differences Between This Proposed AD and EASA AD 2022-0016-E

The EASA AD requires a compliance time of before next hoist operation or within 30 days, whichever occurs first after the effective date of EASA AD 2022-0016-E, whereas this proposed AD would require a compliance time of within 30 hours time in service or within 30 days, whichever occurs first after the effective date of this proposed AD. Where the service information referenced in the EASA AD specifies to perform dye penetrant inspection “if you are not sure,” this proposed AD would not require that action. Where EASA AD 2022-0016-E requires returning a fitting that was required to be removed as a result of the inspection, this proposed AD would not.

Interim Action

The FAA considers this proposed AD would be an interim action. If final action is later identified, the FAA might consider further rulemaking then.

Costs of Compliance

The FAA estimates that this AD, if adopted as proposed, would affect 7 helicopters of U.S. Registry. Labor rates are estimated at $85 per work-hour. Based on these numbers, the FAA estimates the following costs to comply with this proposed AD.

Inspecting all hoist attachment fittings would take about 0.5 work-hour for an estimated cost of $42.50 per helicopter and $298 for the U.S. fleet.

Replacing the front upper fitting would take about 4 hours and parts would cost $834 for an estimated cost of $1,174 per front upper fitting.

Replacing the rear upper fitting would take about 4 hours and parts would cost $1,040 for an estimated cost of $1,380 per rear upper fitting.

Replacing the lower fitting would take about 4 hours and parts would cost $1,874 for an estimated cost of $2,214 per lower fitting.

The FAA estimates that it would take about 1 hour per product to comply with the proposed reporting requirement in this proposed AD. The average labor rate is $85 per hour. Based on these figures, the FAA estimates the cost of reporting the inspection results on U.S. operators to be $595 or $85 per product.

Paperwork Reduction Act

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2022-0808; Project Identifier MCAI-2022-00100-R.

(a) Comments Due Date

The FAA must receive comments on this airworthiness directive (AD) by August 22, 2022.

(b) Affected ADs

None.

(c) Applicability

This AD applies to Airbus Helicopters Model AS332C, AS332C1, AS332L, AS332L1, and AS332L2 helicopters, certificated in any category, with a front upper hoist attachment fitting manufacturer part number (MP/N) 332A87-1116-21, rear upper hoist attachment fitting MP/N 332A87-1117-20, or lower hoist attachment fitting MP/N 332A87-1176-20, installed.

(d) Subject

Joint Aircraft Service Component (JASC) Code: 2500, Cabin Equipment/Furnishings.

(e) Unsafe Condition

This AD was prompted by reports of a crack on the front upper hoist attachment fitting. The FAA is issuing this AD to detect and address this unsafe condition, which could affect the structural integrity of a hoist attachment fitting, possibly leading to an in-flight detachment of the hoist support, and consequent damage to the helicopter or injury to a person being lifted.

(f) Compliance

Comply with this AD within the compliance times specified, unless already done.

(g) Requirements

Except as specified in paragraph (h) of this AD: Comply with all required actions and compliance times specified in, and in accordance with, European Union Aviation Safety Agency (EASA) Emergency AD 2022-0016-E, dated January 26, 2022 (EASA AD 2022-0016-E).

(h) Exceptions to EASA AD 2022-0016-E

(1) Where EASA AD 2022-0016-E refers to its effective date, this AD requires using the effective date of this AD.

(2) Where EASA AD 2022-0016-E requires a compliance time of before next hoist operation or within 30 days, whichever occurs first after the effective date of EASA AD 2022-0016-E, this AD requires a compliance time of within 30 hours time in service or within 30 days, whichever occurs first after the effective date of this AD.

(3) Where the service information referenced in EASA AD 2022-0016-E specifies discarding parts, this AD requires removing those parts from service.

(4) Where EASA AD 2022-0016-E specifies replacing parts and the service information referenced in EASA AD 2022-0016-E specifies returning parts to the manufacturer, this AD requires removing those parts from service.

(5) Where the service information referenced in EASA AD 2022-0016-E specifies reporting inspection results to Airbus Helicopters immediately after each inspection, this AD requires reporting inspection results at the following compliance times:

(i) If there is not a crack, within 30 days after the inspection.

(ii) If there is a crack, before the next hoist operation.

(6) Where the service information referenced in EASA AD 2022-0016-E specifies to perform dye penetrant inspection “if you are not sure,” this AD does not require a dye penetrant inspection.

(7) This AD does not mandate compliance with the “Remarks” section of EASA AD 2022-0016-E.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(2) of this AD. Information may be emailed to: 9-AVS-AIR-730-AMOC@faa.gov.

(2) Before using any approved AMOC, notify your appropriate principal inspector, or lacking a principal inspector, the manager of the local flight standards district office/certificate holding district office.

(j) Related Information

(1) For EASA AD 2022-0016-E, contact EASA, Konrad-Adenauer-Ufer 3, 50668 Cologne, Germany; telephone +49 221 8999 000; email ADs@easa.europa.eu; internet www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2022-0808.

(2) For more information about this AD, contact Kristin Bradley, COS Program Manager, COS Program Management Section, Operational Safety Branch, FAA, 10101 Hillwood Pkwy., Fort Worth, TX 76177; telephone (817) 222-5110; email Kristin.Bradley@faa.gov.

Issued on June 29, 2022.
Christina Underwood,
Acting Director, Compliance & Airworthiness Division, Aircraft Certification Service.

[FR Doc. 2022-14325 Filed 7-5-22; 8:45 am]

BILLING CODE 4910-13-P